DEPARTMENT OF ENERGY

Federal Energy Regulatory Commission

18 CFR Parts 35, 101, 154, 201, 346, and 352

[Docket No. RM02-7-000]

Accounting, Financial Reporting, and Rate Filing Requirements for Asset Retirement Obligations

November 21, 2002.

AGENCY: Federal Energy Regulatory Commission, DOE.

ACTION: Notice of proposed rulemaking; correction.

SUMMARY: This document corrects a comment date in the Commission's proposed rule published in the Federal Register of November 19, 2002, regarding accounting, financial reporting and rate filing requirements for asset retirement obligations. This correction clarifies the Public Comment Procedures to note that comments are due on or before January 3, 2002.

DATES: Comments on the proposed rulemaking are due on or before January 3, 2003.

FOR FURTHER INFORMATION CONTACT:

Raymond Reid (Technical Information), Office of the Executive Director, Federal Energy Regulatory Commission, 888 First Street, NE., Washington, DC 20426, (202) 502-6125.

Julia A. Lake (Legal Information), Office of the General Counsel, Federal Energy Regulatory Commission, 888 First Street, NE., Washington, DC 20426, (202) 502-8370.

SUPPLEMENTARY INFORMATION:

Notice of Correction

The Federal Energy Regulatory Commission published in the Federal Register of November 19, 2002, a Notice of Proposed Rulemaking proposing to amend its regulations to update its accounting and financial reporting requirements under its Uniform Systems of Accounts. The specific date by which the public should submit comments was not inserted in the Public Comment Procedures section of the preamble. In the Federal Register Document 02-28294 published on November 19, 2002 (67 FR 69816) make the following correction.

On page 69826, in the third column, in number 97, correct the sentence “Comments are due within 45 days from publication in the Federal Register” to read as follows:

“Comments on the proposed rulemaking are due on or before January 3, 2003.”

Linwood A. Watson, Jr.,
Deputy Secretary.

[FR Doc. 02-30034 Filed 11-26-02; 8:45 am]

BILLING CODE 6717-01-P